DEPARTMENT OF HOUSING AND URBAN DEVELOPMENT

[Docket No. FR-4653-N-04]

Notice of Proposed Information Collection for Public Comment: Assessment of Third-Party Economic Development Loans Funded Through HUD's Community Planning and Development Programs

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comments Due Date: June 11, 2001.

ADDRESSES: Interested persons are invited to submit comments regarding this proposal. Comments should refer to the proposal by name or OMB control number and be sent to: Reports Liaison Officer, Office of Policy Development and Research, Department of Housing and Urban Development, 451 7th Street, SW., Room 8226, Washington, DC 20410.

FOR FURTHER INFORMATION CONTACT: Judson L. James, Office of Research, Evaluation and Monitoring, Program Evaluation Division, Department of Housing and Urban Development, 451 7th Street, SW., Washington, DC 20410; telephone (202) 708-3700 (this is not a toll-free number). Copies of the proposed forms and other available documents to be submitted to OMB may be obtained from Mr. James.

SUPPLEMENTARY INFORMATION: The Department will submit the proposed information collection to OMB for review, as required by the Paperwork Reduction Act of 1995 (44 U.S.C. Chapter 35, as amended).

This Notice is soliciting from members of the public and affected agencies concerning the proposed collection of information to: (1) Evaluate whether the proposed collection of information is necessary for the proper performance of the function of the agency; (2) evaluate the accuracy of the agency's estimated burden; (3) enhance the quality, utility, and clarity of the information to be collected; and (4) minimize the burden of the collection of information on those who are to respond; including through the use of appropriate automated collection techniques or other forms of information technology, e.g. permitting electronic submission of responses.

This Notice also lists the following information:

Title of Proposal: Assessment of Third-Party Economic Development Loans Funded Through HUD's Community Planning and Development Programs.

Description of the need for the information and proposed use: The information to be collected is part of a larger study of the character and impacts of third-party economic development lending activities funded through HUD's Community Development Block Grant (CDBG), Economic Development Initiative (EDI), and section 108 Guaranteed Loan programs. Although many communities have used large amounts of CDBG, EDI, and section 108 funds for such purposes, there is very little systematically collected information about the extent of such lending nationally, the character and performance of the loans that are made, and the economic development impacts of such loans. This information collection is intended to fill this gap by: describing and characterizing the extent of third-party lending under the CDBG, section 108, and EDI programs; characterizing the nature of the national economic development loan portfolio; and assessing the basic performance and impacts of economic development loans. Together with data collected from administrative records, this information will provide HUD with key performance and evaluation data on its community and economic development programs as well as inform ongoing policy discussion regarding the desirability and feasibility of initiating secondary market sales of locally-issued economic development loans. Secondary market sales could provide such jurisdictions with increased capital availability for economic development purposes.

Members of affected public: In addition to collection of administrative data associated with economic development lending, these objectives will be accomplished through three surveys. The first involves brief telephone interviews with the national universe of local Directors of Community/Economic Development Departments that have used HUD funds for economic development purposes over the last decade. The second involves in-person, in-depth interviews with a sample of local Directors and other officials of Community/Economic Development Departments in 65 local jurisdictions (cities and urban counties) and states that have done extensive lending for economic development—averaging three interviews per jurisdiction/state. The third involves telephone interviews with principals/representatives of private businesses that in recent years have received economic development loans using CDBG, EDI, or section 108 funds.

Estimation of the total number of hours needed to prepare the information collection, including the number of respondents, frequency of response, and hours of response.

Types of respondents | Number of respondents | Number of responses | Minutes per respondent | Total burden hours
Community/Economic Development Department Directors (by telephone) | 800 | 1 | 20 | 266
Community/Economic Development Department Directors/Officials (in person) | 195 | 1 | 60 | 195
Principals/Representatives of Business Loan Recipients (by telephone) | 600 | 1 | 20 | 200
Total | 1595 |  |  | 661

Status of proposed information collection: Pending OMB approval.

Authority: Section 3506 of the Paperwork Reduction Act of 1995, 44 U.S.C. Chapter 35, as amended.

Dated: March 29, 2001.
Lawrence L. Thompson,
General Deputy Assistant Secretary for Policy Development and Research.

[FR Doc. 01-8846 Filed 4-10-01; 8:45 am]

BILLING CODE 4210-62-M